DEPARTMENT OF THE TREASURY

Bureau of the Fiscal Service

Proposed Collection of Information: Collateral Security Resolution and Collateral Pledge and Security Agreement

ACTION: Notice and request for comments.

SUMMARY: The Department of the Treasury, as part of its continuing effort to reduce paperwork and respondent burden, invites the general public and other Federal agencies to take this opportunity to comment on a proposed and/or continuing information collection, as required by the Paperwork Reduction Act of 1995, Public Law 104-13 (44 U.S.C. 3506(c)(2)(A)). Currently the Bureau of the Fiscal Service within the Department of the Treasury is soliciting comments concerning “Collateral Security Resolution” and “Collateral Pledge and Security Agreement.”

DATES: Written comments should be received on or before September 15, 2015 to be assured of consideration.

ADDRESSES: Direct all written comments and requests for further information to Bureau of the Fiscal Service, Bruce A. Sharp, 200 Third Street A4-A, Parkersburg, WV 26106-1328, or bruce.sharp@fiscal.treasury.gov.

FOR FURTHER INFORMATION CONTACT: Requests for additional information or copies of the form(s) and instructions should be directed to Mark Stromer, Bank Policy and Oversight Division, Room 314, 401 14th Street SW., Liberty Center Building, Washington, DC 20227, 202-874-7018, or mark.stromer@fiscal.treasury.gov.

SUPPLEMENTARY INFORMATION:

Titles: Collateral Security Resolution and Collateral Pledge and Security Agreement.

OMB Number: 1530-0017 (Previously approved as 1510-0067 as a collection conducted by Department of the Treasury/Financial Management Service.)

Transfer of OMB Control Number: The Financial Management Service (FMS) and the Bureau of Public Debt (BPD) have consolidated to become the Bureau of the Fiscal Service (Fiscal Service). Information collection requests previously held separately by FMS and BPD will now be identified by a 1530 prefix, designating Fiscal Service.

Form Numbers: FS 5902 and FS 5903.

Abstract: These forms are used to give authority to financial institutions to become a depositary of the Federal Government. They also execute an agreement from the financial institutions they are authorized to pledge collateral to secure public funds with Federal Reserve Banks or their designees.

Current Actions: Extension of a currently approved collection.

Type of Review: Regular.

Affected Public: Business or other for-profit.

Estimated Number of Respondents: 15 (2 forms each).

Estimated Time per Respondent: 30 minutes (15 minutes each form).

Estimated Total Annual Burden Hours: 7.5.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Date: July 13, 2015.
Bruce A. Sharp,
Bureau Clearance Officer.

[FR Doc. 2015-17618 Filed 7-16-15; 8:45 am]

BILLING CODE 4810-AS-P